DEPARTMENT OF TRANSPORTATION

Federal Highway Administration

Environmental Impact Statement; Manatee County, FL

AGENCY: Federal Highway Administration (FHWA), DOT.

ACTION: Notice of intent.

SUMMARY: The FHWA is issuing this notice to advise the public that an Environmental Impact Statement (EIS) will be prepared for a proposed highway project in Manatee County, Florida.

FOR FURTHER INFORMATION CONTACT: Dr. Donald Davis, Program Operations Engineer, Federal Highway Administration, 227 North Bronough Street, Suite 2015, Tallahassee, Florida 32301, Telephone: (850) 942-9650, Extension 3031.

SUPPLEMENTARY INFORMATION: The FHWA, in cooperation with the Florida Department of Transportation will prepare an EIS for a proposal to improve the north-south circulation between I-75 and Rye Road (CR 675). Part of this proposal is to evaluate increased vehicular capacity crossing the Manatee River. Improvements to the corridor are considered necessary to provide for projected traffic demand.

Alternatives under consideration include (1) taking no action; (2) widening mainline I-75 and the I-75 crossing of the River; (3) widening Rye Road; and (4) a new crossing of the Manatee River connecting a widened Fort Hamer Road to the north with a widened Upper Manatee River Road to the south.

Letters describing the proposed action and soliciting comments will be sent to appropriate Federal, state, and local agencies, and to private organizations and citizens who have expressed interest in this proposal. A series of public meetings will be held in Manatee County, Florida between October 2000 and September 2001. In addition a public hearing will be held. Public notice will be given of the time and place of the meetings and hearing. The Draft EIS (DEIS) will be made available for public and organizations reviews and comments prior to the public hearing. Per 40 CFR 1507.1, a scoping process will be developed as part of the project and a formal scoping meeting will be held.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding inter-governmental consultation on Federal programs and activities apply to this program.)
Issued on: November 1, 2000.
Donald Davis,
Program Operations Engineer, Tallahassee, Florida.

[FR Doc. 00-28872 Filed 11-9-00; 8:45 am]

BILLING CODE 4910-22-M